DEPARTMENT OF STATE

[Public Notice: 11320]

30-Day Notice of Proposed Information Collection: Special Immigrant Visa Biodata Form

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments directly to the Office of Management and Budget (OMB) up to February 18, 2021.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Irving Jones, PRM/Admissions, 2025 E Street NW, SA-9, 8th Floor, Washington, DC 20522-0908, who may be reached on 202.453.9248 or at JonesJI2@state.gov.

SUPPLEMENTARY INFORMATION:

• Title of Information Collection: Special Immigrant Visa Biodata Form.

• OMB Control Number: 1405-0203.

• Type of Request: Revision of a Currently Approved Collection.

• Originating Office: Office of Admissions, Bureau of Population, Refugees, and Migration (PRM/A).

• Form Number: DS-0234.

• Respondents: Iraqi and Afghan Special Immigrant Visa Applicants.

• Estimated Number of Respondents: 14,000.

• Estimated Number of Responses: 14,000.

• Average Time per Response: 30 minutes.

• Total Estimated Burden Time: 7,000 annual hours.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Form DS-234 elicits information used to determine the eligibility of certain Iraqis and Afghan SIV recipients for refugee resettlement benefits.

Methodology

The SIV Biodata information form (DS-234) is submitted electronically by the applicant to the National Visa Center, which will forward the forms to the Refugee Processing Center of the Bureau of Population, Refugees, and Migration.

Zachary A. Parker,
Director, Office of Directives Management, Department of State.

[FR Doc. 2021-01059 Filed 1-15-21; 8:45 am]

BILLING CODE 4710-33-P